FEDERAL TRADE COMMISSION

16 CFR Chapter I

Regulatory Review Schedule

AGENCY: Federal Trade Commission.

ACTION: Notification of intent to request public comments.

SUMMARY: As part of its ongoing, systematic review of all Federal Trade Commission rules and guides, the Commission announces a modified ten-year regulatory review schedule. No Commission determination on the need for, or the substance of, the rules and guides listed below should be inferred from this notification.

DATES: August 5, 2022.

FOR FURTHER INFORMATION CONTACT: Further details about particular rules or guides may be obtained from the contact person listed below for the rule or guide. For information about this document, please contact Jock Chung (202-326-2984), Federal Trade Commission, Bureau of Consumer Protection, Division of Enforcement, 600 Pennsylvania Avenue NW, Washington, DC 20580.

SUPPLEMENTARY INFORMATION: To ensure its rules and industry guides remain relevant and not unduly burdensome, the Commission reviews them on a ten-year schedule. Each year the Commission publishes its review schedule, with adjustments made in response to public input, changes in the marketplace, and resource demands.

When the Commission reviews a rule or guide, it publishes a document in the Federal Register seeking public comment on the continuing need for the rule or guide, as well as the rule's or guide's costs and benefits to consumers and businesses. Based on this feedback, the Commission may modify or repeal the rule or guide to address public concerns or changed conditions, or to reduce undue regulatory burden.

The Commission posts information about its review schedule on its website ¹ to facilitate comment. This website contains an updated review schedule, a list of rules and guides previously eliminated in the regulatory review process, and the Commission's regulatory review plan.

¹ https://www.ftc.gov/enforcement/rules/retrospective-review-ftc-rules-guides.

Modified Ten-Year Schedule for Review of FTC Rules and Guides

For 2022, the Commission intends to initiate a review of, and solicit public comments on, the following guide and rule:

(1) Guides for the Use of Environmental Marketing Claims, 16 CFR Part 260. Agency Contacts: Hampton Newsome, (202) 326-2889, Julia Ensor, (202) 326-2377, Federal Trade Commission, Bureau of Consumer Protection, Division of Enforcement, 600 Pennsylvania Ave. NW, Washington, DC 20580.

(2) Business Opportunity Rule, 16 CFR Part 437. Agency Contact: Christine Todaro, (202) 326-3711, Federal Trade Commission, Bureau of Consumer Protection, Division of Marketing Practices, 600 Pennsylvania Ave. NW, Washington, DC 20580.

The Commission is currently reviewing 16 of the 63 rules and guides within its jurisdiction. During 2021, it completed reviews of eight rules: 16 CFR part 313, Privacy of Consumer Financial Information; 16 CFR part 317, Prohibition of Energy Market Manipulation Rule; 16 CFR part 640, Duties of Creditors Regarding Risk-Based Pricing; 16 CFR part 641, Duties of Users of Consumer Reports Regarding Address Discrepancies; 16 CFR 642, Prescreen Opt-Out Notice; 16 CFR 660, Duties of Furnishers of Information to Consumer Reporting Agencies; 16 CFR part 680, Affiliate Marketing; and 16 CFR part 698, Model Forms and Disclosures. Additionally, in 2021, the Commission issued a new rule, 16 CFR part 323, Made in USA Labeling. The Commission is scheduling these rules for review in 2031. The Commission is postponing review of the following matters previously scheduled for review in 2022 until 2027: Guides Against Deceptive Pricing, 16 CFR part 233; Guides Against Bait Advertising, 16 CFR part 238; and Guide Concerning Use of the Word “Free” and Similar Representations, 16 CFR part 251.

The Commission has appended a copy of its modified regulatory review schedule, indicating initiation dates for reviews through 2031. The Commission, in its discretion, may modify or reorder the schedule in the future to incorporate new rules, or to respond to external factors (such as changes in the law) or other considerations.

Authority: 15 U.S.C. 41-58.

By direction of the Commission.
Joel Christie,
Acting Secretary.

Appendix

Regulatory Review—Modified Ten-Year Schedule
16 CFR part | Topic | Year to initiate review
24 | Guides for Select Leather and Imitation Leather Products | Currently Under Review.
255 | Guides Concerning Use of Endorsements and Testimonials in Advertising | Currently Under Review.
308 | Trade Regulation Rule Pursuant to the Telephone Disclosure and Dispute Resolution Act of 1992 [Pay Per Call Rule] | Currently Under Review.
310 | Telemarketing Sales Rule | Currently Under Review.
312 | Children's Online Privacy Protection Rule | Currently Under Review.
314 | Standards for Safeguarding Customer Information | Currently Under Review.
318 | Health Breach Notification Rule | Currently Under Review.
423 | Care Labeling of Textile Wearing Apparel and Certain Piece Goods | Currently Under Review.
432 | Power Output Claims for Amplifiers Utilized in Home Entertainment Products | Currently Under Review.
436 | Disclosure Requirements and Prohibitions Concerning Franchising | Currently Under Review.
453 | Funeral Industry Practices | Currently Under Review.
456 | Ophthalmic Practice Rules (Eyeglass Rule) | Currently Under Review.
681 | Identity Theft [Red Flag] Rules | Currently Under Review.
698 | Model Forms and Disclosures | Currently Under Review.
801 | [Hart-Scott-Rodino Antitrust Improvements Act] Coverage Rules | Currently Under Review.
802 | [Hart-Scott-Rodino Antitrust Improvements Act] Exemption Rules | Currently Under Review.
803 | [Hart-Scott-Rodino Antitrust Improvements Act] Transmittal Rules | Currently Under Review.
437 | Business Opportunity Rule | 2022.
260 | Guides for the Use of Environmental Marketing Claims | 2022.
254 | Guides for Private Vocational and Distance Education Schools | 2023.
309 | Labeling Requirements for Alternative Fuels and Alternative Fueled Vehicles | 2023
429 | Rule Concerning Cooling-Off Period for Sales Made at Homes or at Certain Other Locations | 2023.
20 | Guides for the Rebuilt, Reconditioned, and Other Used Automobile Parts Industry | 2024.
240 | Guides for Advertising Allowances and Other Merchandising Payments and Services [Fred Meyer Guides] | 2024.
300 | Rules and Regulations under the Wool Products Labeling Act of 1939 | 2024.
301 | Rules and Regulations under Fur Products Labeling Act | 2024
303 | Rules and Regulations under the Textile Fiber Products Identification Act | 2024.
425 | Use of Prenotification Negative Option Plans | 2024.
435 | Mail, Internet, or Telephone Order Merchandise | 2024.
424 | Retail Food Store Advertising and Marketing Practices [Unavailability Rule] | 2024.
239 | Guides for the Advertising of Warranties and Guarantees | 2025.
306 | Automotive Fuel Ratings, Certification and Posting | 2025.
305 | Energy Labeling Rule | 2025.
444 | Credit Practices | 2025.
500 | Regulations under Section 4 of the Fair Packaging and Labeling Act | 2025.
501 | Exemptions from Requirements and Prohibitions under Part 500 | 2025.
502 | Regulations under Section 5(c) of the Fair Packaging and Labeling Act | 2025.
503 | Statements of General Policy or Interpretation [under the Fair Packaging and Labeling Act] | 2025.
700 | Interpretations of Magnuson-Moss Warranty Act | 2025.
701 | Disclosure of Written Consumer Product Warranty Terms and Conditions | 2025.
702 | Pre-Sale Availability of Written Warranty Terms | 2025.
703 | Informal Dispute Settlement Procedures | 2025.
304 | Rules and Regulations under the Hobby Protection Act | 2026.
455 | Used Motor Vehicle Trade Regulation Rule | 2026.
233 | Guides Against Deceptive Pricing | 2027.
238 | Guides Against Bait Advertising | 2027.
251 | Guide Concerning Use of the Word “Free” and Similar Representations | 2027.
259 | Guide Concerning Fuel Economy Advertising for New Automobiles | 2027.
682 | Disposal of Consumer Report Information and Records | 2027.
23 | Guides for the Jewelry, Precious Metals, and Pewter Industries | 2028.
311 | Test Procedures and Labeling Standards for Recycled Oil | 2028.
460 | Labeling and Advertising of Home Insulation | 2028.
316 | CAN-SPAM Rule | 2029.
433 | Preservation of Consumers' Claims and Defenses [Holder in Due Course Rule] | 2029.
315 | Contact Lens Rule | 2030.
313 | Privacy of Consumer Financial Information | 2031.
317 | Prohibition of Energy Market Manipulation Rule | 2031.
323 | Made in USA Labeling | 2031.
640 | Duties of Creditors Regarding Risk-Based Pricing | 2031.
641 | Duties of Users of Consumer Reports Regarding Address Discrepancies | 2031.
642 | Prescreen Opt-Out Notice | 2031.
660 | Duties of Furnishers of Information to Consumer Reporting Agencies | 2031.
680 | Affiliate Marketing | 2031.
698 | Model Forms and Disclosures | 2031.

[FR Doc. 2022-16863 Filed 8-4-22; 8:45 am]

BILLING CODE 6750-01-P